DEPARTMENT OF VETERANS AFFAIRS

Notice of Request for Information Regarding Health Care Standards for Quality

AGENCY: Office of Reporting, Analytics, Performance, Improvement, and Deployment (RAPID), Veterans Health Administration, Department of Veterans Affairs.

ACTION: Notice; request for information.

SUMMARY: The Department of Veterans Affairs (VA) is requesting information to assist in establishing health care standards for quality regarding hospital care, medical services, and extended care services furnished by the Department, including through non-Department health care providers.

DATES: Comments must be received by VA on or before September 24, 2018.

ADDRESSES: Written comments may be submitted through http://www.regulations.gov; by mail or hand delivery to the Director, Office of Regulation Policy and Management (00REG), Department of Veterans Affairs, 810 Vermont Avenue NW, Room 1063B, Washington, DC 20420; or by fax to (202) 273-9026. Comments should indicate that they are submitted in response to “Notice of Request for Information Regarding Health Care Standards for Quality.” Copies of comments received will be available for public inspection in the Office of Regulation Policy and Management (00REG), Department of Veterans Affairs, 810 Vermont Avenue NW, Room 1063B, Washington, DC 20420, between the hours of 8:00 a.m. and 4:30 p.m., Monday through Friday (except Federal holidays). Please call (202) 461-4902 (this is not a toll-free number) for an appointment. During the comment period, comments may also be viewed online through the Federal Docket Management System at www.regulations.gov.

FOR FURTHER INFORMATION CONTACT: Chris Rossio, Health System Specialist, Office of Strategic Integration | Veterans Engineering Resource Center (OSI|VERC), Veterans Health Administration, Department of Veterans Affairs, 810 Vermont Avenue NW, Washington, DC 20420, (858) 245-9493. This is not a toll-free number.

SUPPLEMENTARY INFORMATION: The John S. McCain III, Daniel K. Akaka, and Samuel R. Johnson VA Maintaining Internal Systems and Strengthening Integrated Outside Networks Act of 2018, Public Law 115-182, (the VA MISSION Act) created a new 1703C in title 38, United States Code (U.S.C.), that contains requirements for VA to facilitate the establishment and use of standards for quality. In establishing standards for quality, VA is required to consider existing health quality measures that are applied to public and privately sponsored health care systems with the purpose of providing covered Veterans relevant comparative information to make informed decisions regarding their health care. VA requests information from the public regarding the development of these standards for quality, including but not limited to information on the use of standards for quality and the use and availability of comparative information to assist consumers in making informed decisions regarding their health care. Responses to this notice will support industry research and VA's development of standards for quality regarding care furnished by the Department, including through non-Department health care providers.

Section 1703C(a)(4) specifically requires VA to consult with all pertinent Federal entities (including the Department of Defense, the Department of Health and Human Services, and the Centers for Medicare & Medicaid Services), entities in the private sector, and other non-governmental entities in establishing standards for quality. We note that VA will also hold a public meeting on Monday, September 24, 2018, to provide these groups and entities an opportunity to provide additional information. The meeting notice is published elsewhere in this issue of the Federal Register and can also be found in www.regulations.gov under the title “Announcement for Public Meeting Regarding Health Care Standards for Quality”. VA will use the comments it receives to help determine the health care standards for quality in compliance with the VA MISSION Act. VA will then submit a report, no later than March 3, 2019, as required by section 1703C(a)(5)(A), detailing the standards for quality to the appropriate committees of Congress.

In order to submit a report to Congress detailing the standards for quality by March 3, 2019, VA must expedite this consultation, which will be foundational to the process of determining the health care standards for quality. Hence, this notice and request for information has a comment period of 30 days. VA believes that 30 days is sufficient to provide comments, as the groups and entities with expertise in standards for quality will likely have the information readily available or can quickly compile and submit such information.

This notice is a request for information only. Commenters are encouraged to provide complete but concise responses to the questions outlined below. VA may choose to contact individual commenters, and such communications would serve to further clarify their written comments.

Request for Information

VA requests information that will assist in developing the standards for quality required by the VA MISSION Act. This includes datasets that include, at a minimum, elements relating to timely care, effective care, safety (including, at a minimum, complications, readmissions, and deaths), and efficiency.

Specifically, VA requests information related to the following:

1. What standards for quality do public or private providers or health systems currently use? How do public or private providers or health systems measure performance against these standards for quality (i.e., what data sets and measures are employed)? How are those standards and measures used to make decisions regarding patient referrals to specific public or private providers?

2. How does the health system communicate standards for quality to their stakeholders?

3. How are data on quality standards obtained or collected from public or private providers and health systems?

4. Does the public or private provider or health system publicly report performance on those quality standards, including comparisons of quality measures, and in what manner?

5. How does the public or private provider or health system respond to findings when quality standards are not being met?

Signing Authority

The Secretary of Veterans Affairs, or designee, approved this document and authorized the undersigned to sign and submit the document to the Office of the Federal Register for publication electronically as an official document of the Department of Veterans Affairs. Robert L. Wilkie, Secretary, Department of Veterans Affairs, approved this document on August 21, 2018, for publication.

Dated: August 21, 2018.
Michael Shores,
Director, Regulation Policy & Management, Office of the Secretary, Department of Veterans Affairs.

[FR Doc. 2018-18440 Filed 8-23-18; 8:45 am]

BILLING CODE 8320-01-P